DEPARTMENT OF COMMERCE

National Oceanic and Atmospheric Administration

RIN 0648-XD153

Fisheries of the Caribbean, Gulf of Mexico, and South Atlantic; Amendment 16 to the Fishery Management Plan for the Shrimp Fishery of the Gulf of Mexico, United States Waters

AGENCY: National Marine Fisheries Service (NMFS), National Oceanic and Atmospheric Administration (NOAA), Commerce.

ACTION: Notice of Intent (NOI) to prepare a supplemental environmental impact statement (SEIS); request for comments.

SUMMARY: NMFS, Southeast Region, in collaboration with the Gulf of Mexico Fishery Management Council (Council) intends to prepare an SEIS to describe and analyze a range of alternatives for management actions to be included in Amendment 16 to the Fishery Management Plan for the Shrimp Fishery of the Gulf of Mexico (FMP) (Amendment 16). These actions will consider the annual catch limit (ACL), accountability measures (AMs), and continued use of the quota for royal red shrimp. The purpose of this NOI is to solicit public comments on the scope of issues to be addressed in the SEIS.

DATES: Written comments on the scope of issues to be addressed in the SEIS must be received by NMFS by April 10, 2014.

ADDRESSES: You may submit comments, identified by NOAA-NMFS-2014-0030, by any of the following methods:

• Electronic submission: Submit all electronic public comments via the Federal e-Rulemaking Portal. Go to www.regulations.gov/#!docketDetail;D=NOAA-NMFS-2014-0030, click the “Comment Now!” icon, complete the required fields, and enter or attach your comments.

• Mail: Submit written comments to Susan Gerhart, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Susan Gerhart, Southeast Regional Office, telephone: 727-824-5305; or email: Susan.Gerhart@noaa.gov.

SUPPLEMENTARY INFORMATION: On January 30, 2012, NMFS implemented regulations developed through the Generic ACL and AM Amendment (Generic Amendment) to multiple fishery management plans, including the Shrimp FMP (76 FR 82044, December 29, 2011). That amendment included actions to establish the commercial ACL and AM for royal red shrimp. However, the “no action” alternatives and discussions in the Generic Amendment were incorrect in stating that there were currently no management restrictions or AMs for royal red shrimp, when in fact a quota and in-season quota closure were already in the regulations. Because the Council was not fully informed about the existing regulations that would be replaced by their preferred alternatives in the Generic Amendment, NMFS and the Council intend to reconsider the commercial ACL and AM for royal red shrimp.

NMFS, in collaboration with the Council, will develop an SEIS for Amendment 16 to describe and analyze alternatives to: (1) Set the commercial ACL for royal red shrimp and determine if the use of a commercial quota should continue, and (2) choose a commercial AM for royal red shrimp. The alternatives will include an appropriate “no action” alternative regarding each action.

In accordance with NOAA's Administrative Order 216-6, Section 5.02(c), Scoping Process, NMFS, in collaboration with the Council, has identified preliminary environmental issues as a means to initiate discussion for scoping purposes only. These preliminary issues may not represent the full range of issues that eventually will be evaluated in the SEIS. The EIS for the Generic Amendment was originally scoped in 2009 and can be viewed at: http://www.gulfcouncil.org/docs/amendments/Final%20Generic%20ACL_AM_Amendment-September%209%202011%20v.pdf. A guide to Amendment 16 can be viewed at: http://gulfcouncil.org/docs/Public%20Hearing%20Guides/Shrimp%20Amendment%2016%20Guide.pdf.

Comments on the scope of the SEIS may be submitted in writing to NMFS (see ADDRESSES) during the 30-day scoping period. During the development of Amendment 16, the Council will accept written comments on the action, and oral comments may be made during the public testimony portion of any Council meeting

After the draft SEIS associated with Amendment 16 is completed, it will be filed with the Environmental Protection Agency (EPA). After filing, the EPA will publish a notice of availability of the draft SEIS for public comment in the Federal Register. The draft SEIS will have a 45-day public comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

NMFS and the Council will consider public comments received on the draft SEIS in developing the final SEIS and before adopting final management measures for the amendment. NMFS will submit the consolidated final amendment and supporting SEIS to the Secretary of Commerce (Secretary) for review as required by the Magnuson-Stevens Fishery Conservation and Management Act.

NMFS will announce, through a notification in the Federal Register, the availability of the final amendment for public review during the Department of Commerce Secretarial review period, and will consider all public comments. During Secretarial review, NMFS will also file the final SEIS with the EPA, and the EPA will publish a notice of availability for the final SEIS in the Federal Register. This public comment period is expected to be concurrent with the Secretarial review period and will end prior to final agency action to approve, disapprove, or partially approve the amendment.

NMFS will announce, through a document published in the Federal Register, all public comment periods on the final amendment, its proposed implementing regulations, and the availability of its associated final SEIS. NMFS will consider all public comments received during the Secretarial review period, whether they are on the final amendment, the proposed regulations, or the final SEIS, prior to final agency action.

Authority: 16 U.S.C. 1801 et seq.

Dated: March 5, 2014.
Emily H. Menashes,
Acting Director, Office of Sustainable Fisheries, National Marine Fisheries Service.

[FR Doc. 2014-05275 Filed 3-10-14; 8:45 am]

BILLING CODE 3510-22-P